DEPARTMENT OF THE INTERIOR

National Park Service

Notice of Inventory Completion: Southwest Museum of the American Indian, Autry National Center, Los Angeles, CA

AGENCY: National Park Service, Interior.

ACTION: Notice.

Notice is here given in accordance with the Native American Graves Protection and Repatriation Act (NAGPRA), 25 U.S.C. 3003, of the completion of an inventory of human remains in the possession of the Southwest Museum of the American Indian, Autry National Center, Los Angeles, CA. The human remains were removed from Andrew County, MO.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Southwest Museum of the American Indian, Autry National Center professional staff in consultation with representatives of the Absentee-Shawnee Tribe of Indians of Oklahoma; Chickasaw Nation, Oklahoma; Choctaw Nation of Oklahoma; Eastern Shawnee Tribe of Oklahoma; Iowa Tribe of Kansas and Nebraska; Iowa Tribe of Oklahoma; Jena Band of Choctaw Indians, Louisiana; Kaw Nation, Oklahoma; Mississippi Band of Choctaw Indians, Mississippi; Osage Tribe, Oklahoma; Otoe-Missouria Tribe of Indians, Oklahoma; Pawnee Nation of Oklahoma; Quapaw Tribe of Indians, Oklahoma; Sac & Fox Nation of Missouri in Kansas and Nebraska; Sac & Fox Nation, Oklahoma; Sac & Fox Tribe of the Mississippi in Iowa; Shawnee Tribe, Oklahoma; and Three Affiliated Tribes of the Fort Berthold Reservation, North Dakota.

In 1939, human remains representing a minimum of one individual were removed from Amazonia mound (23AN37), 10 miles north of St. Joseph in southwest Andrew County, MO, by Mr. Oscar Branson, an amateur archeologist. In 1944, Mr. John George Braecklein, an architect and archeologist from Kansas City, MO, donated the human remains to the museum, which accessioned the human remains into the museum collection that same year. No known individual was identified. No associated funerary objects are present.

A letter written on February 14, 1944, by Mr. Braeklein to the Director of the Southwest Museum, Dr. Francis Hodge, states, “the supposed Sac and Fox skull was exhumed by Oscar Branson, a curator for the St. Joseph, MO. Museum [while] he was working with the W.P.A. The location of the mound was about 10 miles North of St. Joseph.” Mr. Branson, as an amateur archeologist, worked with the Works Projects Administration with Allen Heflin and Don Reynolds at Amazonia mound on the Missouri River bluffs. Several burials were uncovered, including isolated skulls; only one was donated to the Southwest Museum of the American Indian.

The skull has an inscription on the left parietal of the cranial vault that reads, “From the Butts Collection, Dyer Museum, originally from Mayor Blakesly Coll. Savannah Mo. Note opening, killed with an arrow,” signed “J.G. Braecklein Coll.” An inscription on the right parietal of the cranial vault reads, “964.G.255A.Andrew Co. Mo Mound find 1914.” According to these inscriptions, the human remains appear to have been first transferred from Mr. Branson to the Mayor Blakesly collection in Savannah, MO, then to the Butts collection at the Dyer Museum in St. Joseph, MO, and finally to Mr. Braecklein, the donor. The Southwest Museum of the American Indian has no record of the dates of the transfers prior to the donation by Mr. Braecklein to the museum.

Physical anthropological assessment of cranial and dental morphology is indicative of probable Native American ancestry. Osteological analysis did not reveal the age of the human remains. According to archeological evidence, northwestern Missouri has been occupied continuously since the Early Mississippian period (A.D. 900-1450). Evidence has been found to suggest a Central Plains tradition of Nebraska phase occupation during the Early Mississippian period. An occupation by the Oneota people began in the Late Mississippian period (A.D. 1450-1700) and lasted through the Historic period (post A.D. 1673). The Kanza people migrated to the area sometime prior to A.D. 1750. As early as A.D. 1760, the Meskawki tribes occupied the area. The presence of a possible arrow wound places the age of the human remains no earlier than A.D. 400. Therefore, the human remains may be culturally affiliated with the four tribes that occupied the area from A.D. 400 until the Historic period. A cultural continuum can be reasonably traced between the Central Plains tradition of Nebraska phase occupation and the Pawnee and Arikara tribes. Present-day descendants of the Pawnee and Arikara tribes are members of the Pawnee Nation of Oklahoma and Three Affiliated Tribes of the Fort Berthold Reservation, North Dakota. A cultural continuum can also be reasonably traced between the Late Mississippian period occupation and the Oneota. Present-day descendants of the ancestral Oneota are the Otoe-Missouria Tribe of Indians, Oklahoma, as well as the Iowa Tribe of Kansas and Nebraska. A cultural continuum can be reasonably traced between the Kanza people and their present-day descendants whom are members of the Kaw Nation, Oklahoma. Finally, a cultural continuum can be reasonably traced to between the Historic period occupation and the Meskwaki, present-day descendants of whom are members of the Sac & Fox Nation of Missouri in Kansas and Nebraska; Sac & Fox Nation, Oklahoma; and Sac & Fox Tribe of the Mississippi in Iowa.

Officials of the Southwest Museum of the American Indian have determined that, pursuant to 25 U.S.C. 3001 (9-10), the human remains described above represent the physical remains of one individual of Native American ancestry. Officials of the Southwest Museum of the American Indian also have determined that, pursuant to 25 U.S.C. 3001 (2), there is a relationship of shared group identity that can be reasonably traced between the Native American human remains and the Iowa Tribe of Kansas and Nebraska; Kaw Nation, Oklahoma; Otoe-Missouria Tribe of Indians, Oklahoma; Pawnee Nation of Oklahoma; Sac & Fox Nation of Missouri in Kansas and Nebraska; Sac & Fox Nation, Oklahoma; Sac & Fox Tribe of the Mississippi in Iowa; and Three Affiliated Tribes of the Fort Berthold Reservation, North Dakota.

Representatives of any other Indian tribe that believes itself to be culturally affiliated with the human remains should contact Dr. Duane H. King, Executive Director, or LaLena Lewark, Senior NAGPRA Coordinator, Southwest Museum of the American Indian, 234 Museum Drive, Los Angeles, CA 90065, telephone (323) 221-2164, extension 241, before October 15, 2007. Repatriation of the human remains to the Iowa Tribe of Kansas and Nebraska; Otoe-Missouria Tribe of Indians, Oklahoma; Pawnee Nation of Oklahoma; Sac & Fox Nation of Missouri in Kansas and Nebraska; Sac & Fox Nation, Oklahoma; and Sac & Fox Tribe of the Mississippi in Iowa may proceed after that date if no additional claimants come forward.

The Southwest Museum of the American Indian, Autry National Center is responsible for notifying the Absentee-Shawnee Tribe of Indians of Oklahoma; Chickasaw Nation, Oklahoma; Choctaw Nation of Oklahoma; Eastern Shawnee Tribe of Oklahoma; Iowa Tribe of Kansas and Nebraska; Iowa Tribe of Oklahoma; Jena Band of Choctaw Indians, Louisiana; Kaw Nation, Oklahoma; Mississippi Band of Choctaw Indians, Mississippi; Osage Tribe, Oklahoma; Otoe-Missouria Tribe of Indians, Oklahoma; Pawnee Nation of Oklahoma; Quapaw Tribe of Indians, Oklahoma; Sac & Fox Nation of Missouri in Kansas and Nebraska; Sac & Fox Nation, Oklahoma; Sac & Fox Tribe of the Mississippi in Iowa; Shawnee Tribe, Oklahoma; and Three Affiliated Tribes of the Fort Berthold Reservation, North Dakota that this notice has been published.

Dated: August 28, 2007
Sherry Hutt,
Manager, National NAGPRA Program.

[FR Doc. E7-18103 Filed 9-12-07; 8:45 am]

BILLING CODE 4312-50-S